DEPARTMENT OF TRANSPORTATION

Federal Aviation Administration

14 CFR Part 39

[Docket No. FAA-2004-18996; Directorate Identifier 2004-NM-40-AD]

RIN 2120-AA64

Airworthiness Directives; Boeing Model 737-700 and -800 Series Airplanes

AGENCY: Federal Aviation Administration (FAA), DOT.

ACTION: Notice of proposed rulemaking (NPRM).

SUMMARY: The FAA proposes to adopt a new airworthiness directive (AD) for certain Boeing Model 737-700 and -800 series airplanes. This proposed AD would require doing an initial inspection for pitting and cracks of the lower skin panel at the lap joint; trimming the inner skin; installing exterior doublers; replacing the fuselage skin assembly; doing repetitive supplemental inspections; and repairing if necessary; as applicable. This proposed AD is prompted by a report indicating that localized pitting in the lower skin panels was found during production on a limited number of airplanes. We are proposing this AD to detect and correct premature fatigue cracking at certain lap splice locations and consequent rapid decompression of the airplane.

DATES: We must receive comments on this proposed AD by October 18, 2004.

ADDRESSES: Use one of the following addresses to submit comments on this proposed AD.

• DOT Docket Web site: Go to http://dms.dot.gov and follow the instructions for sending your comments electronically.

• Government-wide rulemaking web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or at the Docket Management Facility, U.S. Department of Transportation, 400 Seventh Street, SW., room PL-401, on the plaza level of the Nassif Building, Washington, DC.

FOR FURTHER INFORMATION CONTACT: Sue Lucier, Aerospace Engineer, Airframe Branch, ANM-120S, FAA, Seattle Aircraft Certification Office, 1601 Lind Avenue, SW., Renton, Washington 98055-4056; telephone (425) 917-6438; fax (425) 917-6590.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18996; Directorate Identifier 2004-NM-40-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the DMS receives them.

Discussion

We have received a report indicating that localized pitting in the lower skin panels was found during production on a limited number of Boeing Model 737-700 and -800 series airplanes. The pitting was caused by chemical milling solution leaking through sealer at a maskant line. The leakage caused local pits to form on the surface of the skin. Testing and analysis revealed that the chemical mill pitting does not reduce the ultimate strength of the effected skin panels, but chemical mill pitting greater than the allowable limit may reduce the fatigue performance and damage tolerance capability of the lower skin panels. This condition, if not corrected, could result in premature fatigue cracking at certain lap splice locations and consequent rapid decompression of the airplane.

Relevant Service Information

We have reviewed Boeing Service Bulletin 737-53-1256, dated September 18, 2003, which describes the following procedures depending on the airplane configuration:

• Doing an initial external ultrasonic inspection for pitting and cracks of the lower skin panel at the lap joint;

• Trimming the inner skin and installing two exterior doublers (including an internal high frequency eddy current inspection of the edge of the trim for cracks) or installing three exterior doublers, as applicable;

• Replacing the fuselage skin assembly with a new assembly;

• Doing supplemental repetitive inspections; and

• Contacting Boeing for repair of discrepancies.

The service bulletin recommends compliance times at the following approximate intervals, depending on the lap splice location:

Table—Service Bulletin Recommended Compliance Times
Action | Recommended compliance time
Initial inspection | Ranging from 28,000 to 75,000 total flight cycles.
Initial supplemental inspection | 56,000 flight cycles after repair incorporation.
Repetitive supplemental inspections | Ranging from 5,000 to 7,500 flight cycles.

Accomplishing the actions specified in the service information is intended to adequately address the unsafe condition.

FAA's Determination and Requirements of the Proposed AD

We have evaluated all pertinent information and identified an unsafe condition that is likely to exist or develop on other airplanes of this same type design. Therefore, we are proposing this AD, which would require you to use the service information described previously to perform the required actions, except as discussed under “Difference Between the Proposed AD and Service Bulletin.”

Difference Between the Proposed AD and Service Bulletin

The service bulletin specifies that you may contact the manufacturer for instructions on how to repair certain conditions, but this proposed AD would require you to repair those conditions in one of the following ways:

• Using a method that we approve; or

• Using data that meet the type certification basis of the airplane, and that have been approved by a Boeing Company Designated Engineering Representative who has been authorized by the FAA to make those findings.

Costs of Compliance

This proposed AD would affect about 4 airplanes worldwide and 2 airplanes of U.S. registry. The following table provides the estimated costs to comply with this proposed AD.

The average labor rate is $65 per work hour. The cost impact of the proposed AD on U.S. operators is estimated to be $83,855.

Table—Cost Impact
For airplanes listed in the referenced service bulletin as group— | Work hours | Parts cost | Per airplane cost
1 | Inspection: 2 | None | $130
| Modification: 38 | $105 | 2,575
2 | Inspection: 2 | None | 130
| Modification: 30 | 104 | 2,054
3 | Inspection: 2 | None | 130
| Modification: 42 | 106 | 2,836
4 | Repair: 920 | 16,200 | 76,000

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-18996; Directorate Identifier 2004-NM-40-AD.

Comments Due Date

(a) The Federal Aviation Administration (FAA) must receive comments on this AD action by October 18, 2004.

Affected ADs

(b) None.

Applicability

(c) This AD applies to Boeing Model 737-700 and -800 series airplanes, certificated in any category; having variable and serial numbers listed in Table 1 of this AD.

Table 1.—Applicable Variable and Serial Numbers
Variable No.— | Serial No.— | Group—
YA004 | 27837 | 1
YA005 | 27836 | 2
YA201 | 28004 | 4
YC003 | 27977 | 3

Unsafe Condition

(d) This AD was prompted by a report indicating that localized pitting in the lower skin panels was found during production on a limited number of airplanes. We are issuing this AD to detect and correct premature fatigue cracking at certain lap splice locations and consequent rapid decompression of the airplane.

Compliance

(e) You are responsible for having the actions required by this AD performed within the compliance times specified, unless the actions have already been done.

Initial Inspection and/or Repair

(f) At the applicable times specified in Table 1 of paragraph 1.E., “Compliance” of Boeing Service Bulletin 737-53-1256, dated September 18, 2003, do the applicable actions specified in Table 2 of this AD in accordance with the Accomplishment Instructions of the service bulletin.

Table 2.—Initial Inspection and/or Repair
For airplanes identified in the service bulletin as— | Requirements—
(1) Groups 1, 2, and 3 | Do an external ultrasonic inspection for pitting and cracks of the lower skin panel at the lap joint.
(2) Groups 1 and 2 | Trim the inner skin and install two exterior doublers (including related investigative actions).
(3) Group 3 | Install three exterior doublers.
(4) Group 4 | Replace the fuselage skin assembly with a new assembly.

Repetitive Inspections

(g) For Groups 1, 2, and 3 airplanes identified in Boeing Service Bulletin 737-53-1256, dated September 18, 2003: At the applicable times specified in Table 2 of paragraph 1.E., “Compliance” of the service bulletin, do the repetitive supplemental inspections of the lower skins and external doublers for discrepancies in accordance with the Accomplishment Instructions of the service bulletin.

Corrective Action

(h) If any discrepancy is found during any action required by this AD, before further flight, repair per a method approved by the Manager, Seattle Aircraft Certification Office (ACO), FAA; or per data meeting the type certification basis of the airplane approved by a Boeing Company Designated Engineering Representative (DER) who has been authorized by the Manager, Seattle ACO, to make such findings. For a repair method to be approved, the approval must specifically reference this AD.

Alternative Methods of Compliance (AMOCs)

(i)(1) The Manager, Seattle Aircraft Certification Office (ACO), FAA, has the authority to approve AMOCs for this AD, if requested in accordance with the procedures found in 14 CFR 39.19.

(2) An AMOC that provides an acceptable level of safety may be used for any repair required by this AD, if it is approved by a Boeing Company DER who has been authorized by the Manager, Seattle ACO, to make those findings. For a repair method to be approved, the approval must specifically refer to this AD.

Issued in Renton, Washington, on August 20, 2004.
Kevin M. Mullin,
Acting Manager, Transport Airplane Directorate, Aircraft Certification Service.

[FR Doc. 04-20124 Filed 9-2-04; 8:45 am]

BILLING CODE 4910-13-P